DEPARTMENT OF VETERANS AFFAIRS

[OMB Control No. 2900-0559]

Agency Information Collection Activity: State Cemetery Data Sheet and Cemetery Grant Documents

AGENCY: National Cemetery Administration, Department of Veterans Affairs.

ACTION: Notice.

SUMMARY: The National Cemetery Administration (NCA), Department of Veterans Affairs (VA), is announcing an opportunity for public comment on the proposed collection of certain information by the agency. Under the Paperwork Reduction Act (PRA) of 1995, Federal agencies are required to publish notice in the Federal Register concerning each proposed collection of information, including each revised collection allow 30 days for public comment in response to the notice. This notice solicits comments on information needed to determine when to begin development of additional acreage for burial space and, in so doing, to anticipate when to provide money to expand or improve these National Cemeteries.

DATES: Written comments and recommendations for the proposed information collection should be sent within 30 days of publication of this notice to www.reginfo.gov/public/do/PRAMain. Find this particular information collection by selecting “Currently under 30-day Review—Open for Public Comments” or by using the search function. Refer to “OMB Control No. 2900-0559.

SUPPLEMENTARY INFORMATION: Authority: Public Law 104-13; 44 U.S.C. 3501-21.

Title: State Cemetery Data, VA Form 40-0241 and Cemetery Grant Documents, 40-0895 Series.

OMB Control Number: 2900-0559.

Type of Review: Extension without of an approved collection.

Abstract: VA Form 40-0241 and Cemetery Grant Documents, 40-0895 Series, are required to provide data regarding the number of interments conducted at State Veterans cemeteries and support grant applications each year. This data is necessary for budget, oversight and compliance purposes associated with exiting and establishment of new State and Tribal government Veteran cemeteries.

An agency may not conduct or sponsor, and a person is not required to respond to a collection of information unless it displays a currently valid OMB control number. The Federal Register Notice with a 60-day comment period soliciting comments on this collection of information was published at insert citation date: Volume 85 No. 45 on Friday, March 6, 2020, page 13238.

Affected Public: Individuals or households.

Estimated Annual Burden: 10,050.

Estimated Average Burden per Respondent: 15 minutes.

Frequency of Response: One-time.

Estimated Number of Respondents: 286.

By direction of the Secretary.
Danny S. Green,
VA PRA Clearance Officer, Office of Quality, Performance and Risk, Department of Veterans Affairs.

[FR Doc. 2020-10510 Filed 5-15-20; 8:45 am]

BILLING CODE 8320-01-P